DEPARTMENT OF TRANSPORTATION

Federal Aviation Administration

14 CFR Part 39

[Docket No. FAA-2015-5809; Directorate Identifier 2015-NM-055-AD; Amendment 39-18709; AD 2016-23-02]

RIN 2120-AA64

Airworthiness Directives; The Boeing Company Airplanes

AGENCY: Federal Aviation Administration (FAA), DOT.

ACTION: Final rule.

SUMMARY: We are superseding Airworthiness Directive (AD) 2006-19-12 for certain The Boeing Company Model 777-200 and -300 series airplanes. AD 2006-19-12 required inspecting the lower web of the aft fairing of the engine struts for any discoloration, and doing related investigative and corrective actions if necessary; inspecting the heat shield castings for any damage and doing corrective action if necessary; installing gap cover strips; and replacing insulation blankets with new insulation blankets. This new AD retains those requirements and also requires, depending on airplane configuration, one-time or repetitive detailed inspections for cracking and deformation, as applicable, of the aft fairing lower structure, and one-time or repetitive conductivity inspections of the aft fairing lower structure, and related investigative and corrective actions if necessary. This new AD also adds airplanes to the applicability. This AD was prompted by a report that an aft fairing lower spar web exceeded the allowable conductivity limits. We are issuing this AD to address the unsafe condition on these products.

DATES: This AD is effective December 30, 2016.

The Director of the Federal Register approved the incorporation by reference of certain publications listed in this AD as of December 30, 2016.

The Director of the Federal Register approved the incorporation by reference of a certain other publication listed in this AD as of October 30, 2006 (71 FR 55727, September 25, 2006).

ADDRESSES: For service information identified in this final rule, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2015-5809.

Examining the AD Docket

You may examine the AD docket on the Internet at http://www.regulations.gov by searching for and locating Docket No. FAA-2015-5809; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Sue Lucier, Aerospace Engineer, Propulsion Branch, ANM-140S, FAA, Seattle Aircraft Certification Office (ACO), 1601 Lind Avenue SW., Renton, WA 98057-3356; telephone: 425-917-6438; fax: 425-917-6590; email: suzanne.lucier@faa.gov.

SUPPLEMENTARY INFORMATION:

Discussion

We issued a notice of proposed rulemaking (NPRM) to amend 14 CFR part 39 to supersede AD 2006-19-12, Amendment 39-14769 (71 FR 55727, September 25, 2006) (“AD 2006-19-12”). AD 2006-19-12 applied to certain Boeing Model 777-200 and -300 series airplanes. The NPRM published in the Federal Register on November 20, 2015 (80 FR 72621) (“the NPRM”). The NPRM was prompted by a report that an aft fairing lower spar web exceeded the allowable conductivity limits. The NPRM proposed to continue to require inspecting the lower web of the aft fairing of the engine struts for any discoloration, and doing related investigative and corrective actions if necessary; inspecting the heat shield castings for any damage and doing corrective action if necessary; installing gap cover strips; and replacing insulation blankets with new insulation blankets. The NPRM also proposed to require, depending on airplane configuration, one-time or repetitive detailed inspections for cracking and deformation, as applicable, of the aft fairing lower structure; one-time or repetitive conductivity inspections of the aft fairing lower structure; and related investigative and corrective actions if necessary. The NPRM also added airplanes to the applicability. We are issuing this AD to detect and correct degradation of the aft fairing lower web, which could lead to cracking of the web and could allow flammable fluids to leak into the heat shield pan castings, and increase the risk of an uncontained fire and subsequent structural damage.

Comments

We gave the public the opportunity to participate in developing this AD. The following presents the comments received on the NPRM and the FAA's response to each comment.

Request To Exclude a Certain Line Number From the Applicability

Boeing requested that we exclude line number (L/N) 940 from the applicability of the proposed AD. Boeing stated that the effectivity of Boeing Service Bulletin 777-54-0026, Revision 2, dated January 5, 2012; and Boeing Special Attention Service Bulletin 777-54-0038, dated March 6, 2015; erroneously included L/N 940.

Boeing commented that a modification (installation of new gap cover strip fillers, new Velcro strips, and improved aft fairing insulation blankets) was introduced in production starting on L/N 940. Boeing noted that Boeing Service Bulletin 777-54-0026, Revision 2, dated January 5, 2012, which is an optional terminating action in the proposed AD, specifies procedures for that modification. Boeing stated that, therefore, the proposed AD would mandate that the service information be accomplished for L/N 940 even though the optional terminating action was already incorporated in production. Boeing commented that since the terminating action was incorporated in production for L/N 940, the unsafe condition stated in the proposed AD does not exist and the one-time inspection using Boeing Special Attention Service Bulletin 777-54-0038, dated March 6, 2015, is not required for that airplane.

We agree with the commenter's request. Since L/N 940 already has the terminating action incorporated during the airplane's production, we have excluded L/N 940 from the applicability in paragraph (c) of this AD.

Request To Change the Compliance Time

Boeing requested that we change the compliance time in paragraph (j) of the proposed AD from “24 months after the effective date of this AD” to “750 days after the effective date of this AD.” Boeing stated that the compliance time of 750 days aligns with the proposed compliance time specified in paragraph 1.E., “Compliance,” of Boeing Special Attention Service Bulletin 777-54-0038, dated March 6, 2015.

We disagree with the commenter's request. The compliance time is expressed in months for ease of compliance time awareness. We converted days to months, and 750 days is equivalent to 24 months. We have not changed this AD in this regard.

Request To Revise Inspection Language for Clarity

Boeing requested that we revise paragraph (j) of the proposed AD to clarify that the detailed inspections of the aft fairing lower structure are intended to detect cracks and deformation, and the conductivity inspections of the aft fairing lower structure are intended to detect thermal degradation of the structure.

We agree with the commenter's request. We have revised paragraph (j) of this AD accordingly.

Request To Address and Clarify Compliance for Certain Airplane Groups

Air New Zealand requested that we clearly address compliance for certain airplane groups. Air New Zealand commented that we have not clearly addressed compliance in the proposed AD for Group 1, Configurations 2 and 4, airplanes; and Group 2, Configuration 2, airplanes. Air New Zealand stated it has airplanes that have accomplished the actions in Boeing Service Bulletin 777-54-0026, dated March 29, 2011; and Boeing Service Bulletin 777-54-0026, Revision 1, dated August 23, 2011; but have yet to accomplish the actions in Boeing Special Attention Service Bulletin 777-54-0038, dated March 6, 2015. Air New Zealand stated that if Boeing Service Bulletin 777-54-0026, dated March 29, 2011; Boeing Service Bulletin 777-54-0026, Revision 1, dated August 23, 2011; or Boeing Service Bulletin 777-54-0026, Revision 2, dated January 5, 2012; have been accomplished, the terminating action in paragraph (k) of the proposed AD is achieved by accomplishing Boeing Special Attention Service Bulletin 777-54-0038, dated March 6, 2015.

We partially agree with the commenter. We agree to clarify the airplane configurations to make the compliance requirements in paragraphs (j) and (k) of this AD easier to understand and follow.

Although paragraph (j) of the proposed AD did not explicitly state the various configurations and groups for the initial inspection, it was intended that the initial inspection would be done for all airplanes and that the repetitive inspections would apply only to the configurations identified in paragraph (j) of the proposed AD in the sentence that specifies to do repetitive inspections.

In paragraph (j)(1) of this AD, we have specified that the initial detailed inspections must be done for all configurations, including associated groups, within 24 months after the effective date of this AD. In paragraph (j)(2) of this AD, we have specified that repetitive inspections must be done (until the terminating action specified in paragraph (k) of this AD is done) for airplanes that belong to Group 1, Configurations l and 3, and for Group 2, Configuration 1, airplanes identified in Boeing Special Attention Service Bulletin 777-54-0038, dated March 6, 2015.

For Group 1, Configurations 2 and 4, airplanes, and Group 2, Configuration 2, airplanes identified in Boeing Special Attention Service Bulletin 777-54-0038, dated March 6, 2015, operators do not need to do the repetitive inspections on those airplanes. For those airplanes, the actions specified in Boeing Service Bulletin 777-54-0026 would have already been done and only the initial inspection required by paragraph (j)(1) of this AD would need to done. Note that those airplanes are listed in table 2 of paragraph 1.E., “Compliance,” of Boeing Special Attention Service Bulletin 777-54-0038, dated March 6, 2015, which does not specify repetitive inspections.

We have modified paragraph (j) of this AD to clarify the airplane configurations by identifying which groups are affected. We have also modified paragraph (k) of this AD to accommodate the changes in paragraph (j) of this AD.

Request To Use Boeing Information Notice

Air New Zealand requested that we add Boeing Information Notice (IN) 777-54-0038, IN 01, dated December 10, 2015 (“Boeing IN 777-54-0038”), to paragraph (j) of the proposed AD. Air New Zealand stated that the information notice shows the required parts needed to accomplish Boeing Special Attention Service Bulletin 777-54-0038, dated March 6, 2015.

We acknowledge the intent of the commenter's request. However, the parts identified in Boeing IN 777-54-0038 do not affect the unsafe condition or the requirements of this AD as Boeing IN 777-54-0038 contains interchangeability information and the alternate parts are not required. Therefore, operators can comply with paragraph (j) of this AD by accomplishing the actions specified in the Accomplishment Instructions of Boeing Special Attention Service Bulletin 777-54-0038, dated March 6, 2015. In addition, it is not appropriate to cite Boeing INs as sources of service information in ADs because INs are not FAA-approved documents. We have not changed this final rule in this regard.

Request To Clarify Required Actions

Air New Zealand requested that we clarify the required actions in the proposed AD. Air New Zealand stated that it has airplanes on which the actions in Boeing Service Bulletin 777-54-0026, dated March 29, 2011; Boeing Service Bulletin 777-54-0026, Revision 1, dated August 23. 2011; or Boeing Service Bulletin 777-54-0026, Revision 2, dated January 5, 2012; has been accomplished, but the actions in Boeing Special Attention Service Bulletin 777-54-0038, dated March 6, 2015, have not been accomplished. Air New Zealand stated that it thinks if Boeing Service Bulletin 777-54-0026 has been previously complied with, terminating action is achieved once Boeing Special Attention Service Bulletin 777-54-0038, dated March 6, 2015, is accomplished.

We agree to clarify the actions in this AD. We infer Air New Zealand is requesting credit for having done Boeing Service Bulletin 777-54-0026, dated March 29, 2011; or Boeing Service Bulletin 777-54-0026, Revision 1, dated August 23. 2011. Paragraph (k) of this AD describes terminating action for paragraph (j)(2) of this AD and refers to Boeing Service Bulletin 777-54-0026, Revision 2, dated January 5, 2012. We have added a new paragraph (l) to this AD to give credit for prior accomplishment of the actions in Boeing Service Bulletin 777-54-0026, dated March 29, 2011; and Boeing Service Bulletin 777-54-0026, Revision 1, dated August 23, 2011. We have redesignated the subsequent paragraphs accordingly.

Request To Clarify the Word “New” in the Proposed AD

Boeing requested that we revise the Related Service Information under 1 CFR part 51 paragraph of the NPRM and paragraph (k) of the proposed AD to replace the words “new aft fairing insulation blankets” with “improved aft fairing insulation blankets with new batting material.” Boeing stated that the insulation blankets specified in Boeing Service Bulletin 777-54-0026, Revision 2, dated January 5, 2012, have improved thermal protection properties to the insulation blankets, as specified in Boeing Special Attention Service Bulletin 777-54-0021, Revision 1, dated March 16, 2006, due to being made from different materials. Boeing stated that, therefore, to avoid confusion between paragraphs (g)(4) and (k) of the proposed AD when referring to “new” insulation blankets, the distinction needs to be made.

We agree with the commenter's request. We have changed this final rule accordingly.

Conclusion

We reviewed the relevant data, considered the comments received, and determined that air safety and the public interest require adopting this AD with the changes described previously, and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

We reviewed Boeing Service Bulletin 777-54-0026, Revision 2, dated January 5, 2012. The service information describes procedures for a detailed inspection of the gap cover strips and heat shield pan castings for damage, corrective actions, and installation of new gap cover strip fillers, new Velcro strips, and improved aft fairing insulation blankets with new batting material.

We also reviewed Boeing Special Attention Service Bulletin 777-54-0038, dated March 6, 2015. The service information describes procedures for one-time and repetitive detailed inspections for any cracking and deformation, as applicable, of the aft fairing lower structure; conductivity inspections of the aft fairing lower structure; and related investigative and corrective actions.

This service information is reasonably available because the interested parties have access to it through their normal course of business or by the means identified in the ADDRESSES section.

Costs of Compliance

We estimate that this AD affects 99 airplanes of U.S. registry.

We estimate the following costs to comply with this AD:

Estimated Costs
Action | Labor cost | Parts cost | Cost per product | Cost on U.S. operators
Inspection and other actions [retained actions from AD 2006-19-12] | Up to 11 work-hours × $85 per hour = $935, depending on airplane configuration | Up to $16,179, depending on airplane configuration | Up to $17,114, depending on airplane configuration | Up to $1,694,286, depending on airplane configuration.
Inspections [new action] | Up to 24 work-hours × $85 per hour = $2,040, depending on airplane configuration | $0 | Up to $2,040, depending on airplane configuration | Up to $201,960, depending on airplane configuration.

We estimate the following costs to do any necessary related investigative and corrective actions that will be required based on the results of the inspection. We have no way of determining the number of aircraft that might need these inspections and replacements:

On-Condition Costs
Action | Labor cost | Parts cost | Cost per product
Related investigative actions | Up to 36 work-hours × $85 per hour = $3,060, depending on airplane configuration | $0 | Up to $3,060, depending on airplane configuration.
Corrective actions | Up to 38 work-hours × $85 per hour = $3,230, depending on airplane configuration | $0 | Up to $3,230, depending on airplane configuration.

According to the manufacturer, all of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2006-19-12, Amendment 39-14769 (71 FR 55727, September 25, 2006), and adding the following new AD:

2016-23-02 The Boeing Company: Amendment 39-18709; Docket No. FAA-2015-5809; Directorate Identifier 2015-NM-055-AD.

(a) Effective Date

This AD is effective December 30, 2016.

(b) Affected ADs

This AD replaces AD 2006-19-12, Amendment 39-14769 (71 FR 55727, September 25, 2006) (“AD 2006-19-12”).

(c) Applicability

This AD applies to The Boeing Company Model 777-200, -200LR, -300, -300ER, and 777F series airplanes, certified in any category, as identified in Boeing Special Attention Service Bulletin 777-54-0038, dated March 6, 2015; except for line number 940.

(d) Subject

Air Transport Association (ATA) of America Code 54, Nacelles/pylons.

(e) Unsafe Condition

This AD was prompted by a report that an aft fairing lower spar web exceeded the allowable conductivity limits. An investigation concluded that wear to the pan casting and gap cover strips allowed increased heat into the aft fairing heat shield cavity. We are issuing this AD to detect and correct degradation of the aft fairing lower web, which could lead to cracking of the web and could allow flammable fluids to leak into the heat shield pan castings, and increase the risk of an uncontained fire and subsequent structural damage.

(f) Compliance

Comply with this AD within the compliance times specified, unless already done.

(g) Retained Inspection, Installation, and Replacement Actions, With No Changes

This paragraph restates the actions required by paragraph (f) of AD 2006-19-12, with no changes. For Model 777-200 and -300 series airplanes identified in Boeing Special Attention Service Bulletin 777-54-0021, Revision 1, dated March 16, 2006: Except as provided by paragraph (h) of this AD, within 12 months after October 30, 2006 (the effective date of AD 2006-19-12), do the actions specified in paragraphs (g)(1), (g)(2), (g)(3), and (g)(4) of this AD, in accordance with the Accomplishment Instructions of Boeing Special Attention Service Bulletin 777-54-0021, Revision 1, dated March 16, 2006.

(1) Do a general visual inspection of the lower web of the aft fairing for any discoloration and do any related investigative action.

(2) Do a general visual inspection of the heat shield castings for any damage (crack(s), dent(s), gouge(s), warpage, fretting, or missing/loose nutplates).

(3) Install gap cover strips on the heat shield pans.

(4) Replace insulation blankets on the heat shield pans with new insulation blankets.

(h) Retained Repair Instructions, With No Changes

This paragraph restates the actions required by paragraph (g) of AD 2006-19-12, with no changes. If any damage, discoloration, heat damage, or crack is found during any inspection required by paragraph (g) of this AD: Before further flight, do all applicable corrective actions, in accordance with a method approved by the Manager, Seattle Aircraft Certification Office (ACO), FAA, or in accordance with the Accomplishment Instructions of Boeing Special Attention Service Bulletin 777-54-0021, Revision 1, dated March 16, 2006.

(i) Retained Credit for Previous Actions, With Revised Format

This paragraph restates the credit provided by paragraph (h) of AD 2006-19-12, with a revised format. This paragraph provides credit for actions required by paragraph (g) of this AD, if those actions were performed before October 30, 2006 (the effective date of AD 2006-19-12), using Boeing Special Attention Service Bulletin 777-54-0021, dated June 23, 2005, except where Boeing Special Attention Service Bulletin 777-54-0021, dated June 23, 2005, does not provide an international annealed copper standard (IACS) value for determining the results of the inspection for heat damage, the maximum acceptable IACS value is 42 percent.

(j) New Requirements: Detailed and Conductivity Inspections and Related Investigative and Corrective Actions (Repetitive Inspections for Certain Airplanes)

(1) For Group 1, Configurations 1, 2, 3, and 4, airplanes; and Group 2, Configurations 1 and 2, airplanes; identified in Boeing Special Attention Service Bulletin 777-54-0038, dated March 6, 2015: Within 24 months after the effective date of this AD, do a detailed inspection of the aft fairing lower structure for any cracking and deformation, and do a conductivity inspection of the aft fairing lower structure for the IACS value (thermal degradation indication), as applicable, and do all applicable related investigative and corrective actions, in accordance with the Accomplishment Instructions of Boeing Special Attention Service Bulletin 777-54-0038, dated March 6, 2015. Do all applicable related investigative and corrective actions before further flight.

(2) For Group 1, Configurations 1 and 3, airplanes, and Group 2, Configuration 1, airplanes, identified in Boeing Special Attention Service Bulletin 777-54-0038, dated March 6, 2015: Repeat the inspections specified in paragraph (j)(1) of this AD thereafter at intervals not to exceed 24 months until the terminating action specified in paragraph (k) of this AD is done.

(k) Optional Terminating Action

Accomplishing a detailed inspection of the gap cover strips and heat shield pan castings for damage and applicable corrective actions, and installation of new gap cover strip fillers, new Velcro strips, and improved aft fairing insulation blankets with new batting material, in accordance with the Accomplishment Instructions of Boeing Service Bulletin 777-54-0026, Revision 2, dated January 5, 2012, prior to or concurrently with accomplishing detailed and conductivity inspections and all applicable related investigative and corrective actions required by paragraph (j)(1) of this AD, terminates the repetitive inspections specified in paragraph (j)(2) of this AD; except, where Boeing Service Bulletin 777-54-0026, Revision 2, dated January 5, 2012, specifies to contact the manufacturer, repair using a method approved in accordance with the procedures specified in paragraph (m) of this AD.

(l) Credit for Previous Actions

This paragraph provides credit for the actions specified in paragraph (k) of this AD that are identified in Boeing Service Bulletin 777-54-0026, Revision 2, dated January 5, 2012, if those actions were performed before the effective date of this AD using Boeing Service Bulletin 777-54-0026, dated March 29, 2011; or Boeing Service Bulletin 777-54-0026, Revision 1, dated August 23, 2011.

(m) Alternative Methods of Compliance (AMOCs)

(1) The Manager, Seattle ACO, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (n)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of airplane, and the approval must specifically refer to this AD.

(4) AMOCs approved for AD 2006-19-12 are approved as AMOCs for the corresponding provisions of paragraphs (g), (h), and (i) of this AD.

(5) For service information that contains steps that are labeled as Required for Compliance (RC), the provisions of paragraphs (m)(5)(i) and (m)(5)(ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(n) Related Information

(1) For more information about this AD, contact Sue Lucier, Aerospace Engineer, Propulsion Branch, ANM-140S, FAA, Seattle ACO, 1601 Lind Avenue SW., Renton, WA 98057-3356; telephone: 425-917-6438; fax: 425-917-6590; email: suzanne.lucier@faa.gov.

(2) Service information identified in this AD that is not incorporated by reference is available at the addresses specified in paragraphs (o)(5) and (o)(6) of this AD.

(o) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on December 30, 2016.

(i) Boeing Service Bulletin 777-54-0026, Revision 2, dated January 5, 2012.

(ii) Boeing Special Attention Service Bulletin 777-54-0038, dated March 6, 2015.

(4) The following service information was approved for IBR on October 30, 2006, Amendment 39-14769 (71 FR 55727, September 25, 2006).

(i) Boeing Special Attention Service Bulletin 777-54-0021, Revision 1, dated March 16, 2006.

(ii) Reserved.

(5) For Boeing service information identified in this AD, contact Boeing Commercial Airplanes, Attention: Data & Services Management, P.O. Box 3707, MC 2H-65, Seattle, WA 98124-2207; telephone 206-544-5000, extension 1; fax 206-766-5680; Internet https://www.myboeingfleet.com.

(6) You may view this service information at FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on October 28, 2016.
Dionne Palermo,
Acting Manager, Transport Airplane Directorate, Aircraft Certification Service.

[FR Doc. 2016-26809 Filed 11-23-16; 8:45 am]

BILLING CODE 4910-13-P